DEPARTMENT OF ENERGY

Chicago Operations Office; Office of Science; Notice of Solicitation for Financial Assistance Applications for the Commercialization Assistance Program (CAP)

AGENCY: DOE, Chicago Operations Office.

ACTION: Notice inviting financial assistance applications.

SUMMARY: The Department of Energy (DOE), Office of Science (SC), announces its interest in receiving applications for financial assistance. The purpose of this solicitation is to invite applications from small businesses to provide individualized assistance to DOE SBIR Phase II financial assistance award recipients which will lead to the successful commercialization of products, services, or technology developed in the DOE SBIR Phase II program. The individualized assistance may include, but is not limited to, business related areas such as raising capital, preparing business plans, forecasts, product focusing, strategic partnering, and marketing.

DATE: Applications are to be received no later than August 8, 2000, and may be submitted any time prior to this deadline.

FOR FURTHER INFORMATION CONTACT: Tonja L. Stokes, Acquisitions and Assistance Group, U.S. Department of Energy, Chicago Operations Office, 9800 South Cass Avenue, Argonne, IL 60439-4899, by telephone at 630/252-2136, by facsimile at 630/252-5045, or by electronic mail at tonja.stokes@ch.doe.gov, or Renee L. Irwin by telephone at 630/252-2566, by facsimile at 630/252-5045, or by electronic mail at renee.irwin@ch.doe.gov.

SUPPLEMENTARY INFORMATION:

Qualification and Evaluation Criteria

This solicitation is a restricted eligibility solicitation which is limited to small businesses. For purposes of this solicitation, the definition of a small business may be found at Title 13 of the Code of Federal Regulations (CFR) Part 121.20 and may be viewed or downloaded from the Internet at http://www.access.gpo.gov/nara/cfr/index.html. DOE plans to select for award the application(s) judged to be of the highest overall merit, with consideration given to the quality of the technical approach, company and personnel experience and qualifications, business evaluation, and cost factors.

Application Submission

The solicitation will be available on the internet on or about July 1, 2000 and may be accessed at the DOE Chicago Operations Office, Acquisition and Assistance Group home page at http://www.ch.doe.gov/business/acq.htm under the heading “Current Solicitations,” Soicitation No. DE-SC02-00ER12245. Completed applications referencing Solicitation No. DE-SC02-00ER12245 must be submitted to the U.S. Department of Energy, Chicago Operations Office, Communications Center, Building 201, Room 168, 9800 South Cass Avenue, Argonne, IL 60439-4899, ATTN: Tonja L. Stokes, Acquisition and Assistance Group.

Issued in Argonne, Illinois on June 27, 2000.
John D. Greenwood,
Group Manager, Acquisition and Assistance Group.

[FR Doc. 00-17114 Filed 7-5-00; 8:45 am]

BILLING CODE 6450-01-P